COMMISSION ON CIVIL RIGHTS

Sunshine Act Meeting Notice

AGENCY: United States Commission on Civil Rights.

ACTION: Notice of Commission public business meeting.

DATES: Friday, October 18, 2024, 10:00 a.m. EST.

ADDRESSES: Meeting to take place virtually and is open to the public via livestream on the Commission's YouTube page: https://www.youtube.com/user/USCCR/videos.

FOR FURTHER INFORMATION CONTACT: Joe Kim: 202-376-8371; publicaffairs@usccr.gov.

SUPPLEMENTARY INFORMATION: In accordance with the Government in Sunshine Act (5 U.S.C. 552b), the Commission on Civil Rights is holding a meeting to discuss the Commission's business for the month. This business meeting is open to the public. Computer assisted real-time transcription (CART) will be provided. The web link to access CART (in English) on October 10, 2024, is https://www.streamtext.net/player?event=USCCR. Please note that CART is text-only translation that occurs in real time during the meeting and is not an exact transcript.

I. Approval of Agenda

II. Business Meeting

A. Presentation by New Hampshire Advisory Committee Chair on Released Reports and Memorandum on Solitary Confinement

B. Presentation by South Dakota Advisory Committee Chair on Released Reports and Memorandum on Voting Rights and Access

C. Presentation by Tennessee Advisory Committee Chair on Released Reports and Memorandum on Civil and Voting Rights

D. Management and Operations

• Staff Director's Report

III. Adjourn Meeting

Dated: October 10, 2024.
Zakee Martin,
USCCR Special Assistant to the Staff Director.

[FR Doc. 2024-23843 Filed 10-10-24; 4:15 pm]

BILLING CODE P